DEPARTMENT OF ENERGY

Federal Energy Regulatory Commission

Combined Notice of Filings

Take notice that the Commission has received the following Natural Gas Pipeline Rate and Refund Report filings:

Filings Instituting Proceedings

Docket Numbers: RP26-491-000.

Applicants: National Fuel Gas Supply Corporation.

Description: Compliance filing: Fuel Tracker Filing.

Filed Date: 2/18/26.

Accession Number: 20260218-5137.

Comment Date: 5 p.m. ET 3/2/26.

Docket Numbers: RP26-492-000.

Applicants: Vector Pipeline L.P.

Description: Annual Report of Operational Purchases and Sales of Vector Pipeline L.P.

Filed Date:2/18/26.

Accession Number: 20260218-5143.

Comment Date: 5 p.m. ET 3/2/26.

Docket Numbers: RP26-493-000.

Applicants: Crossroads Pipeline Company LLC.

Description: § 4(d) Rate Filing: TRA 2026 to be effective 4/1/2026.

Filed Date:2/19/26.

Accession Number: 20260219-5019.

Comment Date: 5 p.m. ET 3/3/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 19, 2026.
Debbie-Anne A. Reese,
Secretary.

[FR Doc. 2026-03669 Filed 2-23-26; 8:45 am]

BILLING CODE 6717-01-P